DEPARTMENT OF THE INTERIOR

Bureau of Land Management

[F-19155-9; LLAK964000-L14100000-KC0000-P]

Alaska Native Claims Selection

AGENCY: Bureau of Land Management, Interior.

ACTION: Notice of decision approving lands for conveyance.

SUMMARY: As required by 43 CFR 2650.7(d), notice is hereby given that the Bureau of Land Management (BLM) will issue an appealable decision approving the conveyance of the surface and subsurface estates in certain lands to Doyon, Limited pursuant to the Alaska Native Claims Settlement Act. The lands are in the vicinity of Rampart, Alaska, and are located in:

Fairbanks Meridian, Alaska

T. 7 N., R. 15 W.,

Secs. 3 and 4;

Sec. 5, lots 1 and 2.

Containing approximately 1,420 acres.

T. 9 N., R. 13 W.,

Sec. 35.

Containing approximately 640 acres.

Aggregating approximately 2,060 acres.

Notice of the decision will also be published four times in the Fairbanks Daily News-Miner.

DATES: The time limits for filing an appeal are:

1. Any party claiming a property interest which is adversely affected by the decision shall have until June 11, 2010 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may contact the Bureau of Land Management by calling the Federal Information Relay Service (FIRS) at 1-800-877-8339, 24 hours a day, 7 days a week.

Barbara J. Walker,
Land Law Examiner, Land Transfer Adjudication I Branch.

[FR Doc. 2010-11285 Filed 5-11-10; 8:45 am]

BILLING CODE 4310-JA-P